DEPARTMENT OF THE INTERIOR

National Park Service

Notice of Inventory Completion for Native American Human Remains and Associated Funerary Objects in the Possession of The State Museum of Pennsylvania, Harrisburg, PA

AGENCY: National Park Service

ACTION: Notice

Notice is hereby given in accordance with provisions of the Native American Graves Protection and Repatriation Act (NAGPRA), 43 CFR 10.9, of the completion of an inventory of human remains and associated funerary objects in the possession of The State Museum of Pennsylvania, Harrisburg, PA.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by The State Museum of Pennsylvania professional staff in consultation with representatives of the Seneca Nation of New York, the Seneca-Cayuga Tribe of Oklahoma, and the Tonawanda Band of Seneca Indians of New York.

At an unknown time, human remains representing one individual were removed from the Conestoga Indian Town Site (36La52), Manor Township, Lancaster County, PA by Samual Farver. Mr. Farver donated these remains to The State Museum of Pennsylvania in 1961. No known individual was identified. No associated funerary objects are present.

At an unknown time, human remains representing 3 individuals and 86 associated funerary objects were removed from the Conestoga Indian Town Site by Robert Ditchburn. Mr. Ditchburn donated the remains and objects to The State Museum of Pennsylvania in 1967. No known individuals were identified. The objects include shell, glass, and seed beads; woven fabric fragments; miscellaneous iron fragments; an iron knife blade; lead musket balls; a pewter spoon; wood fragments; and a brass medallion, rings, and wire chain segments.

In 1972, human remains representing 86 individuals and 63,176 associated funerary objects were removed during excavations by The State Museum of Pennsylvania at the Conestoga Indian Town Site. No known individuals were identified. The objects include animal fragments (bone refuse, fur/hair, turtle shell fragments, snail shell), beads (catlinite, shell, glass, seed, wampum, bone, brass, wood), bone combs, brass kettles, brick fragments, buckskins (with and without fur attached), charcoal fragments, clothing fasteners (brass and iron buckles; pewter, brass, wood with brass casing, and iron(?) buttons; straight pins), catlinite effigies, glass fragments (goblet stems, cruets, medicine bottles, miscellaneous), gun parts (lock, trigger guard, barrel, side plates, frizzen, flints, ramrod, brass buttplate, buckskin bullet pouch, bullet mold, lead musket balls, powder horn fragments, gunpowder), 18th century ceramics (comb slipware mug, redware sherds, redware pitcher, redware dish, redware cup), iron tools (axe, hoe, claw hammer, awl, knife blades with wooden and bone clasps and handles, nails and screws, scissors), iron and brass mouth harps, mirror fragments, miscellaneous brass items (bands, wire, bands around fabric, hinge, vanity box, washers, thimbles, hawk and sleigh bells, kettles), miscellaneous iron items (spring, needle-like fragments fused with string, pot fragments, snuff boxes), miscellaneous lead fragments, miscellaneous leather fragments (thongs, thong fragment with a brass rivet, shoe parts), miscellaneous pewter fragments, miscellaneous seeds and nuts, ornamentation (medallion; rings; chain fragments; jinglers; coins; coils; cross; wire choker; cufflinks; bracelets; shell, catlinite, and other stone pendants; pewter crucifix and turtle; shell disc; gorget; runtees; silver broaches, crucifix, and hair ornaments), smoking pipes (kaolin, pewter, earthenware), spectacles (brass wire with lenses), spoons (pewter, wood, brass), stone tools (arrow shaft fragments, flint core, hammerstone, brass and stone projectile points), strike-a-lights, textile fragments (cordage, woven cloth with and without brocade),whetstones, and wood fragments including bowl and barrel fragments.

The Euroamerican assemblage of objects dates the burials to the 18th century. Ethnohistoric, documentary, and archeological evidence indicates that the Conestoga Indian Town Site was occupied by Seneca and Susquehannock Indians between A.D. 1700-1763. There is no evidence to contradict this.

Based on the above-mentioned information, officials of The State Museum of Pennsylvania have determined that, pursuant to 43 CFR 10.2 (d)(1), the human remains listed above represent the physical remains of 90 individuals of Native American ancestry. Officials of The State Museum of Pennsylvania also have determined that, pursuant to 43 CFR 10.2 (d)(2), the 63,262 objects listed above are reasonably believed to have been placed with or near individual human remains at the time of death or later as part of the death rite or ceremony. Lastly, officials of The State Museum of Pennsylvania have determined that, pursuant to 43 CFR 10.2 (e), there is a relationship of shared group identity that can be reasonably traced between these Native American human remains and associated funerary objects and the Seneca Nation of New York, the Seneca-Cayuga Tribe of Oklahoma, and the Tonawanda Band of Seneca Indians of New York.

This notice has been sent to officials of the Seneca Nation of New York, the Seneca-Cayuga Tribe of Oklahoma, and the Tonawanda Band of Seneca Indians of New York. Representatives of any other Indian tribe that believes itself to be culturally affiliated with these human remains and associated funerary objects should contact Stephen G. Warfel, Senior Curator, Archaeology, The State Museum of Pennsylvania, 300 North Street, Harrisburg, PA 17120-0024, telephone (717) 783-2887, before November 24, 2000. Repatriation of the human remains and associated funerary objects to the Seneca Nation of New York, the Seneca-Cayuga Tribe of Oklahoma, and the Tonawanda Band of Seneca Indians of New York may begin after that date if no additional claimants come forward.

Dated: October 16, 2000
John Robbins,
Assistant Director, Cultural Resources Stewardship and Partnerships

[FR Doc. 00-27396 Filed 10-24-00; 8:45 am]

BILLING CODE 4310-70-F